DEPARTMENT OF ENERGY

Federal Energy Regulatory Commission

Combined Notice of Filings #2

Take notice that the Commission received the following electric corporate filings:

Docket Numbers: EC11-67-000.

Applicants: Golden Spread Electric Cooperative, Inc., Denver City Energy Associates, L.P., Great Point Power Denver City LP, LLC, LSP-Denver City, LLC, GPP Investors I, LLC,QUIXX Mustang Station, LLC.

Description: Application for Authorization Under Section 203 of the Federal Power Act and Request for Expedited Action of Denver City Energy Associates, L.P. et al.

Filed Date: 04/15/2011.

Accession Number: 20110415-5269.

Comment Date: 5 p.m. Eastern Time on Friday, May 06, 2011.

Take notice that the Commission received the following exempt wholesale generator filings:

Docket Numbers: EG11-74-000.

Applicants: Yuba City Cogeneration Partners, LP.

Description: Self-Certification of Yuba City Cogeneration Partners, LP.

Filed Date: 04/15/2011.

Accession Number: 20110415-5171.

Comment Date: 5 p.m. Eastern Time on Friday, May 06, 2011.

Take notice that the Commission received the following electric rate filings:

Docket Numbers: ER10-1790-003.

Applicants: BP Energy Company.

Description: BP Energy Company submits tariff filing per 35: Baseline MBR Tariff Filing of BP Energy Company to be effective 8/1/2010.

Filed Date: 04/15/2011.

Accession Number: 20110415-5183.

Comment Date: 5 p.m. Eastern Time on Friday, May 06, 2011.

Docket Numbers: ER10-3323-003.

Applicants: Indeck-Olean Limited Partnership.

Description: Indeck-Olean Limited Partnership submits tariff filing per 35: Indeck-Olean Compliance File Baseline FERC Electric MBR Tariff No. 1 to be effective 4/15/2011.

Filed Date: 04/15/2011.

Accession Number: 20110415-5181.

Comment Date: 5 p.m. Eastern Time on Friday, May 06, 2011.

Docket Numbers: ER11-2617-001.

Applicants: ISO New England Inc., NSTAR Electric Company, Western Massachusetts Electric Company, Unitil Energy Systems, Inc.

Description: ISO New England Inc. submits tariff filing per 35: PTO Schedule 20A Service Providers and CSC Compliance Filing to be effective 4/1/2011.

Filed Date: 04/15/2011.

Accession Number: 20110415-5097.

Comment Date: 5 p.m. Eastern Time on Friday, May 06, 2011.

Docket Numbers: ER11-2795-001.

Applicants: Pacific Gas & Electric Company.

Description: Pacific Gas and Electric Company Compliance Refund Report.

Filed Date: 04/15/2011.

Accession Number: 20110415-5259.

Comment Date: 5 p.m. Eastern Time on Friday, May 06, 2011.

Docket Numbers: ER11-3325-001.

Applicants: Whiting Clean Energy, Inc.

Description: Whiting Clean Energy, Inc. submits tariff filing per 35: Baseline MBR Tariff Filing of Whiting Clean Energy, Inc. to be effective 4/16/2011.

Filed Date: 04/15/2011.

Accession Number: 20110415-5179.

Comment Date: 5 p.m. Eastern Time on Friday, May 06, 2011.

Docket Numbers: ER11-3360-000.

Applicants: ISO New England Inc., New England Power Pool Participants Committee.

Description: ISO New England Inc. submits tariff filing per 35.13(a)(2)(iii): FAP Changes to be effective 6/15/2011.

Filed Date: 04/15/2011.

Accession Number: 20110415-5077.

Comment Date: 5 p.m. Eastern Time on Friday, May 06, 2011.

Docket Numbers: ER11-3361-000.

Applicants: Tucson Electric Power Company.

Description: Tucson Electric Power Company submits tariff filing per 35.1: Second WestConnect Regional Transmission Tariff Filing to be effective 7/1/2011.

Filed Date: 04/15/2011.

Accession Number: 20110415-5079.

Comment Date: 5 p.m. Eastern Time on Friday, May 06, 2011.

Docket Numbers: ER11-3362-000.

Applicants: Tampa Electric Company.

Description: Tampa Electric Company submits tariff filing per 35.13(a)(2)(iii): Amendment of Rate Schedule No. 13_Cancellation of Schedule J to be effective 2/24/2011.

Filed Date: 04/15/2011.

Accession Number: 20110415-5112.

Comment Date: 5 p.m. Eastern Time on Friday, May 06, 2011.

Docket Numbers: ER11-3363-000.

Applicants: Tampa Electric Company.

Description: Tampa Electric Company submits tariff filing per 35.13(a)(2)(iii): Amendment of Rate Schedule No. 27_Cancellation of Schedule J to be effective 2/24/2011.

Filed Date: 04/15/2011.

Accession Number: 20110415-5114.

Comment Date: 5 p.m. Eastern Time on Friday, May 06, 2011.

Docket Numbers: ER11-3364-000.

Applicants: Tampa Electric Company.

Description: Tampa Electric Company submits tariff filing per 35.13(a)(2)(iii): Amendment of Rate Schedule No. 37_Cancellation of Schedule J to be effective 2/24/2011.

Filed Date: 04/15/2011.

Accession Number: 20110415-5115.

Comment Date: 5 p.m. Eastern Time on Friday, May 06, 2011.

Docket Numbers: ER11-3365-000.

Applicants: PJM Interconnection, L.L.C.

Description: PJM Interconnection, L.L.C. submits tariff filing per 35.13(a)(2)(iii): Refinements to Excess Commitment Credit and Incremental Auction Rules to be effective 6/17/2011.

Filed Date: 04/15/2011.

Accession Number: 20110415-5122.

Comment Date: 5 p.m. Eastern Time on Friday, May 06, 2011.

Docket Numbers: ER11-3366-000.

Applicants: Wildcat Power Holdings, LLC.

Description: Wildcat Power Holdings, LLC submits tariff filing per 35.12: Wildcat Application for Market-Based Rates to be effective 5/6/2011.

Filed Date: 04/15/2011.

Accession Number: 20110415-5130.

Comment Date: 5 p.m. Eastern Time on Friday, May 06, 2011.

Docket Numbers: ER11-3367-000.

Applicants: Yuba City Cogeneration Partners, LP.

Description: Yuba City Cogeneration Partners, LP submits tariff filing per 35.12: YCC MBR Application to be effective 6/15/2011.

Filed Date: 04/15/2011.

Accession Number: 20110415-5138.

Comment Date: 5 p.m. Eastern Time on Friday, May 06, 2011.

Docket Numbers: ER11-3368-000.

Applicants: PacifiCorp.

Description: PacifiCorp submits tariff filing per 35.13(a)(2)(iii: BPA AC Intertie Agreement 3rd Revised to be effective 6/15/2011.

Filed Date: 04/15/2011.

Accession Number: 20110415-5167.

Comment Date: 5 p.m. Eastern Time on Friday, May 06, 2011.

Docket Numbers: ER11-3369-000.

Applicants: PacifiCorp.

Description: PacifiCorp submits tariff filing per 35.13(a)(2)(iii): Tri-State NITSA to be effective 4/1/2011.

Filed Date: 04/15/2011.

Accession Number: 20110415-5172.

Comment Date: 5 p.m. Eastern Time on Friday, May 06, 2011.

Take notice that the Commission received the following electric securities filings:

Docket Numbers: ES11-22-000.

Applicants: Midwest Independent Transmission System Operator, Inc.

Description: Supplemental Information of The Midwest Independent Transmission System Operator, Inc.

Filed Date: 04/15/2011.

Accession Number: 20110415-5143.

Comment Date: 5 p.m. Eastern Time on Monday, April 25, 2011.

Take notice that the Commission received the following open access transmission tariff filings:

Docket Numbers: OA07-54-009.

Applicants: PacifiCorp.

Description: Annual Report on Operational Penalties of PacifiCorp under OA07-54.

Filed Date: 04/15/2011.

Accession Number: 20110415-5140.

Comment Date: 5 p.m. Eastern Time on Friday, May 06, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 15, 2011.
Nathaniel J. Davis, Sr.,
Deputy Secretary.

[FR Doc. 2011-9777 Filed 4-21-11; 8:45 am]

BILLING CODE 6717-01-P